DEPARTMENT OF JUSTICE

Antitrust Division

Notice Pursuant to the National Cooperative Research and Production Act of 1993—Defense Industrial Based Consortium

Notice is hereby given that, on January 10, 2025, pursuant to section 6(a) of the National Cooperative Research and Production Act of 1993, 15 U.S.C. 4301 et seq. (“the Act”), Defense Industrial Based Consortium (“DIBC”) has filed written notifications simultaneously with the Attorney General and the Federal Trade Commission disclosing changes in its membership. The notifications were filed for the purpose of extending the Act's provisions limiting the recovery of antitrust plaintiffs to actual damages under specified circumstances. Specifically, 5N Plus Semiconductors, St. George, UT; Allonnia LLC, Boston, MA; Alsym Energy, Inc., Malden, MA; American Peat Technology LLC, Aitkin, MN; Applied Forge Defense LLC, Alexandria, VA; Auriga Space, Inc., San Francisco, CA; Avalon Mfg, Inc., Compton, CA; Avient Protective Materials LLC, Greenville, NC; Bell Textron, Inc., Fort Worth, TX; Blackbeard Ordnance and Munitions LLC, Shreveport, LA; Blacktree Technology Pty Ltd., Belmont, COMMONWEALTH OF AUSTRALIA; Blue Origin Florida LLC, Merritt Island, FL; BlueHalo Labs LLC, Albuquerque, NM; Bolt Threads, Inc., Hayward, CA; Boron Specialties LLC, Ambridge, PA; Boston Cryogenics LLC, Billerica, MA; Burlington Industries LLC, Charlotte, NC; Chemical Value Holdings, Inc., Falls Church, VA; Chillflow Solutions Australia Pty Ltd., Freshwater, COMMONWEALTH OF AUSTRALIA; Chromatic 3D Materials, Inc., Golden Valley, MN; CO2/Split, Inc., Eads, TN; Combined Systems, Inc., Jamestown, PA; Cornerstone Research Group, Inc., Miamisburg, OH; Crgo, Inc. (dba) Enigma Aerospace, Burlington, MA; Defense Metals Corp., Vancouver, CANADA; Defense Operations & Execution Solutions, Inc., West Melbourne, FL; Defined Business Solutions LLC, Lancaster, VA; Deltek, Inc., Herndon, VA; Drone City LLC, Rome, NY; Early Birds Marketplace Pty Ltd., Denman Prospect, COMMONWEALTH OF AUSTRALIA; EDAC Labs, Inc., Beltsville, VA; ELEMENT 119 LLC, Plainville, NJ; Ellwood Quality Steels Co., New Castle, PA; Energy Fuels Holdings Corp. (DBA) Energy Fuels, Inc., Lakewood, CO; Evolution Space, Inc., Zion, IL; Evonik Corp., Piscataway, NJ; Exothermics, Inc., Amherst, NH; First Tellurium Corp., Delta, CANADA; Free Form Fibers LLC, Saratoga Springs, FL; Free Spirit Brands LLC, Farmington Hills, MI; Ginkgo Bioworks, Inc., Boston, MA; Global Business Solutions LLC, Pensacola, FL; GreenBlu, Inc. DBA Tidal Metals, Hamilton, NJ; GRI Technology Solutions LLC, San Mateo, CA; Haberman Pharmaceuticals LLC, Rockville, MD; Hexcel Corp., West Valley City, UT; Hughes Network Systems LLC, Germantown, MD; IEC Infrared Systems LLC, Middleburg Heights, OH; Iridian LLC, Beaverton, OR; Larvotto Resources Ltd., Nedlands, COMMONWEALTH OF AUSTRALIA; Leading Technology Composites, Inc., Wichita, KS; Logistic Specialties, Inc., Layton, UT; MetalWerks, Inc., Aliquippa, PA; Monument Chemical Houston LLC, Houston, TX; Naycel Systems, Inc., Lake Mary, FL; New Hampshire Aerospace & Defense Export Consortium, Inc.—NHADEC, Concord, NH; Next Defense Solutions LLC, Warren, NJ; Olson Custom Designs LLC, Indianapolis, IN; P2 Science, Inc., Woodbridge, CT; Paradigm Materials LLC, Bothell, WA; Park-Tours, Inc. (DBA) Left Coast Engineering, Escondido, CA; Perpetua Resources Idaho, Inc., Boise, ID; Phinix LLC, Clayton, MO; Positive Materials, Inc., Vancouver, CANADA; PreFer Industries Ltd., Burlington, CANADA; Protonautics Pty Ltd., Wacol, COMMONWEALTH OF AUSTRALIA; Radical AI, Inc., New York, NY; Redwood Materials, Inc., Carson City, NV; Russell Industries Corp., Niagara Falls, CANADA; Salient Motion, Inc., Los Angeles, CA; Shee Atiká Systems LLC, Sitka, AK; Snoe Inc., Machining and Welding, Caldwell, TX; Space Information Laboratories LLC, Santa Maria, CA; Spintech Holdings, Inc., Miamisburg, OH; Stardust Power, Inc., Oklahoma City, OK; Superior Forge and Steel Corp., Lima, OH; Syscom Components LLC, Moorestown, NJ; The Ross Group Construction Corp., Tulsa, OK; The Timken Co., North Canton, OH; Thompson Creek Metals Company USA, Langeloth, PA; Tungsten Parts Wyoming, Inc., Laramie, WY; Turtle Tree Labs, Inc., Woodland, CA; UEP, Inc., Virginia Beach, VA; United States Antimony Corp., Thompson Falls, MT; Velo3D, Inc., Fremont, CA; and WMC Energy Corp., New York, NY have been added as parties to this venture.

Also, Global Circuit Innovations, Inc., Colorado Springs, CO; Shee Atika Enterprises LLC, Sita, AK; and WMC Group B.V. Amsterdam, KINGDOM OF THE NETHERLANDS have withdrawn as parties to this venture.

No other changes have been made in either the membership or planned activity of the group research project. Membership in this group research project remains open, and DIBC intends to file additional written notifications disclosing all changes in membership.

On February 21, 2024, DIBC filed its original notification pursuant to section 6(a) of the Act. The Department of Justice published a notice in the Federal Register pursuant to section 6(b) of the Act on June 24, 2024 (89 FR 52508).

The last notification was filed with the Department on October 18, 2024. A notice was published in the Federal Register pursuant to section 6(b) of the Act on January 24, 2025 (90 FR 8146).

Suzanne Morris,
Deputy Director Civil Enforcement Operations, Antitrust Division.

[FR Doc. 2025-03216 Filed 2-27-25; 8:45 am]

BILLING CODE P